DEPARTMENT OF THE INTERIOR

Fish and Wildlife Service

50 CFR Part 17

[Docket No. FWS-R5-ES-2020-0127; FXES11130500000-212-FF05E00000]

1018-BD73

Endangered and Threatened Wildlife and Plants; Technical Corrections for Northeast Species

AGENCY: Fish and Wildlife Service, Interior.

ACTION: Direct final rule.

SUMMARY: We, the U.S. Fish and Wildlife Service, announce the revised taxonomy of four wildlife species and two plant species under the Endangered Species Act of 1973, as amended (Act). We are revising the List of Endangered and Threatened Wildlife and the List of Endangered and Threatened Plants to reflect the scientifically accepted taxonomy and nomenclature of these species.

DATES: This rule is effective January 13, 2022 without further action, unless significant adverse comment is received by November 15, 2021. If significant adverse comment is received, we will publish a timely withdrawal of the rule for the appropriate species in the Federal Register.

ADDRESSES: You may submit comments by one of the following methods:

(1) Electronically: Go to the Federal eRulemaking Portal: http://www.regulations.gov. In the Search box, enter FWS-R5-ES-2020-0127, which is the docket number for this rulemaking. Then, click on the Search button. On the resulting page, in the Search panel on the left side of the screen, under the Document Type heading, click on the Proposed Rule box to locate this document. You may submit a comment by clicking on “Comment Now!”

(2) By hard copy: Submit by U.S. mail or hand-delivery to: Public Comments Processing, Attn: FWS-R5-ES-2020-0127, U.S. Fish and Wildlife Service, MS: PRB/3W, 5275 Leesburg Pike, Falls Church, VA 22041-3803.

See Public Comments under SUPPLEMENTARY INFORMATION, below, for more information about submitting comments.

FOR FURTHER INFORMATION CONTACT: Martin Miller, Manager, Division of Endangered Species, U.S. Fish and Wildlife Service, North Atlantic-Appalachian Regional Office, 300 Westgate Center Drive, Hadley, MA 01035; telephone 413-253-8615; email Martin_Miller@fws.gov. Individuals who are hearing impaired or speech impaired may call the Federal Relay Service at 800-877-8339 for TTY (telephone typewriter or teletypewriter) assistance 24 hours a day, 7 days a week.

SUPPLEMENTARY INFORMATION:

Purpose of Direct Final Rule and Final Action

The purpose of this direct final rule is to notify the public that we are revising: (1) The List of Endangered and Threatened Wildlife in title 50 of the Code of Federal Regulations (CFR) at § 17.11(h) (50 CFR 17.11(h)) to reflect the scientifically accepted taxonomy and nomenclature of one freshwater turtle species, two beetle species, and one snail species listed under section 4 of the Act (16 U.S.C. 1531 et seq.); and (2) the List of Endangered and Threatened Plants in title 50 of the CFR at § 17.12(h) (50 CFR 17.12(h)) to reflect the scientifically accepted taxonomy and nomenclature of two plant species. These changes reflect the most recently accepted scientific names in accordance with 50 CFR 17.11(c) and 50 CFR 17.12(b).

We are publishing this rule without a prior proposal because this is a noncontroversial action that is in the best interest of the public and should be undertaken in as timely a manner as possible. This rule will be effective, as published in this document, on the effective date specified in DATES, unless we receive significant adverse comments by the comment due date specified in DATES. Significant adverse comments are comments that provide strong justification as to why our rule should not be adopted or why it should be changed.

If we receive significant adverse comments regarding the taxonomic changes for any of these species, we will publish a document in the Federal Register withdrawing this rule for the appropriate species before the effective date, and, if appropriate, we will publish a proposed rule to initiate promulgation of those changes to 50 CFR 17.11(h) and/or 50 CFR 17.12(h).

Public Comments

You may submit your comments and materials regarding this direct final rule by one of the methods listed in ADDRESSES. Please include sufficient information with your comment that allows us to verify any scientific or commercial information you include.

We will post all comments on http://www.regulations.gov. This generally means that we will post any personal information you provide us. Before including your address, phone number, email address, or other personal information in your comment, you should be aware that your entire comment—including your personal identifying information—may be made publicly available at any time. While you can ask us in your comment to withhold your personal identifying information from public review, we cannot guarantee that we will be able to do so.

Comments and materials we receive, as well as supporting documentation we used in preparing this direct final rule, will be available for public inspection on the Internet at http://www.regulations.gov or by appointment, during normal business hours at the U.S. Fish and Wildlife Service location listed above in FOR FURTHER INFORMATION CONTACT. Please note that comments posted to http://www.regulations.gov are not immediately viewable. When you submit a comment, the system receives it immediately. However, the comment will not be publicly viewable until we post it, which might not occur until several days after submission. Information regarding this rule is available in alternative formats upon request (see FOR FURTHER INFORMATION CONTACT).

Background

Sections 17.11(c) and 17.12(b) of title 50 of the CFR direct us to use the most recently accepted scientific name of any species that we have determined to be an endangered or threatened species. Using the best available scientific information, this direct final rule documents taxonomic changes of the scientific names to one entry under “Reptiles,” one entry under “Snails,” and two entries under “Insects” on the List of Endangered and Threatened Wildlife (50 CFR 17.11(h)), and two entries under “Flowering Plants” on the List of Endangered and Threatened Plants (50 CFR 17.12(h)). The basis for these taxonomic changes is supported by published studies in peer-reviewed journals. Accordingly, we revise the scientific names of these species under section 4 of the Act (16 U.S.C. 1531 et seq.).

Taxonomic Classification

Astragalus robbinsii var. jesupii

Jesup's milk-vetch was federally listed as an endangered species under the variant spelling Astragalus robbinsii var. jesupi, and the first recovery plan recognized the taxon as Astragalus robbinsii var. jesupi. However, the current nomenclature for the species is Astragalus robbinsii var. jesupii. The scientific name change of Astragalus robbinsii var. jesupii (Jesup's milk-vetch) from Astragalus robbinsii var. jesupi is supported by the standards outlined in the International Code of Botanical Nomenclature and accepted as the scientific name for Jesup's milk-vetch in the Integrated Taxonomic Information System (ITIS), which the Service will rely on to the extent practicable to determine a species' scientific name. The Service finds that the Jesup's milk-vetch should be recognized as Astragalus robbinsii var. jesupii and is a valid listable entity. This plant will continue to be listed as an endangered species, and no other aspect of the entry for this plant in 50 CFR 17.12(h) will change as a result of this rule.

Boechera serotina

The scientific name change of Boechera serotina (shale barren rock cress) from Arabis serotina is supported by morphological, molecular, and cytological analyses. While Al-Shehbaz (2003, p. 381) found that 32 of the North American species of Arabis (Brassicaceae) should be recognized as members of the genus Boechera, based on morphological differences between the two genera, Arabis serotina was not transferred to Boechera by Al-Shehbaz (2003, entire) at that time, pending further study. Extensive molecular studies on members of the North American Arabis indicate the genus is polyphyletic and represents a heterogeneous assemblage of four genera: Arabidopsis, Boechera, Pennellia, and Turritis (Al-Shehbaz 2003, pp. 381-382). Most of the North American species represent a distinct lineage (Boechera) closely related to the halomilobine mustards (Mitchell-Olds et al. 2005, p. 122). A published diploid chromosome count of 2n = 14 (Wieboldt 1987, p. 388) and recent molecular investigations have determined that this taxon belongs to a clade of eastern North American species now assigned to Boechera (Windham and Al-Shehbaz 2007, p. 249). Boechera serotina is the accepted scientific name of shale barren rock cress in the ITIS, which incorporates the naming principles established by the International Code of Nomenclature for algae, fungi, and plants. The Service finds that shale barren rock cress should be recognized as Boechera serotina and is a valid listable entity. This species will continue to be listed as an endangered species, and no other aspect of the entry for this plant in 50 CFR 17.12(h) will change as a result of this rule.

Ellipsoptera puritana

The scientific name change of Ellipsoptera puritana (Puritan tiger beetle) from Cicindela puritana is supported by molecular analyses. The Nearctic genus Ellipsoptera Dokhtouroff (13 species) was found to be monophyletic and grouped as a sister to the Nearctic genus Dromochorus Guerin-Meneville (4 species) and North American genus Cylindera (5 species), with the Caribbean/Neotropical genus Brasiella Rivalier (45 species) nested within the diverse and polyphyletic genus Cylindera (Gough et al. 2018, p. 316). The clade containing these four lineages was strongly supported, consists exclusively of New World taxa, and was sister to a predominately Old World clade of Cylindera species (Gough et al. 2018, p. 316). The Ellipsoptera puritana name change and placement is supported in Bousquet's (2012, p. 296) catalogue of Geadephaga (Coleoptera, Adephaga) of America, north of Mexico. Ellipsoptera puritana is the accepted scientific name of Puritan tiger beetle in the ITIS, which incorporates the naming principles established by the International Code of Zoological Nomenclature. The Service finds that the Puritan tiger beetle should be recognized as Ellipsoptera puritana and is a valid listable entity. This species will continue to be listed as threatened, and no other aspect of the entry for this species in 50 CFR 17.11(h) will change as a result of this rule.

Glyptemys muhlenbergii

The scientific name change of Glyptemys muhlenbergii (bog turtle) from Clemmys muhlenbergii is supported by molecular analyses. Research of Glyptemys muhlenbergii has found sufficient evidence indicating the genus Clemmys (McDowell 1964, pp. 239-279) to be paraphyletic with respect to the sister genera Emys and Emydoidea, and also possibly Terrapene (Holman and Fritz 2001, entire; Wiens et al. 2010, pp. 445-461; and Fritz et al. 2011, pp. 41- 53). Two taxonomic schemes, reflecting the latter genera relationships, are currently in contention; however, the two schemes place both sister taxa insculpta and muhlenbergii in the genus Glyptemys and leave guttata in the monotypic genus Clemmys. This name change has been recognized by Crother et al. (2003, p. 203). Glyptemys muhlenbergii is the accepted scientific name of bog turtle in the ITIS, which incorporates the naming principles established by the International Code of Zoological Nomenclature. No subspecies are recognized for Glyptemys muhlenbergii, although two geographically distinct “populations” (“northern” and “southern”) delineate the Federal listing status of “threatened” (northern, listed as a distinct population segment) and “threatened by similarity of appearance” (southern) under the Act. The Service finds that bog turtle should be recognized as Glyptemys muhlenbergii and is a valid listable entity. This species will continue to be listed as threatened, and no other aspect of the entry for this species in 50 CFR 17.11(h) will change as a result of this rule.

Habroscelimorpha dorsalis dorsalis

The scientific name change of Habroscelimorpha dorsalis dorsalis (Northeastern beach tiger beetle) from Cicindela dorsalis dorsalis is supported by molecular analyses. The New World genus Habroscelimorpha Dokhtouroff was found to be paraphyletic with species placed in two different clades (Gough et al. 2018, p. 316). The Central American and Nearctic species Habroscelimorpha curvata Chevrolat, Habroscelimorpha dorsalis Say, and Habroscelimorpha schwarzi Horn are part of a moderately supported clade that includes the paraphyletic Central American genus Microthylax Rivalier (3 species) and the monophyletic widespread genus Myriochila Motschulsky (46 species). This name change has been recognized by Knisley (2017, entire). The name change and placement is further supported in Bousquet's (2012, p. 304) catalogue of Geadephaga (Coleoptera, Adephaga) of America, north of Mexico. Habroscelimorpha dorsalis is the accepted scientific name of Eastern beach tiger beetle in the ITIS, which incorporates the naming principles established by the International Code of Zoological Nomenclature. While the Service often relies on ITIS as a reliable database source of taxonomic information, in this instance ITIS is incomplete. ITIS provides only the common name for the species Habroscelimorpha dorsalis and does not provide the common name for the listed subspecies. The common name Eastern beach tiger beetle is used to refer to all four subspecies within Habroscelimorpha. The common name Northeastern beach tiger beetle is commonly used and accepted in the scientific literature to refer to the subspecies Habroscelimorpha dorsalis dorsalis (Knisley 2017). Therefore, upon review of ITIS's underlying data, we consider the information that displays the common name for Habroscelimorpha dorsalis dorsalis as eastern tiger beetles to be incomplete. The Service finds that the Northeastern beach tiger beetle should be recognized as Habroscelimorpha dorsalis dorsalis and is a valid listable entity. This subspecies will continue to be listed as threatened, and no other aspect of the entry for this species in 50 CFR 17.11(h) will change as a result of this rule.

Novisuccinea chittenangoensis

The scientific name change of Novisuccinea chittenangoensis (Chittenango ovate amber snail) from Succinea chittenangoensis is supported by morphological characters and molecular analyses. Sufficient evidence is provided by Hoagland and Davis (1987, pp. 465-526) that the Chittenango ovate amber snail is a valid species and elevates the section Novisuccinea to the genus level. While the Service often relies on ITIS as a reliable database source of taxonomic information, in this instance ITIS is incorrect. The scientific literature has been using Novisuccinea chittenangoensis (Chittenango ovate amber snail) for many years. ITIS includes an additional common name of Appalachian amber snail, which is not recognized by species experts. Therefore, upon review of ITIS's underlying data, we consider the information that displays Chittenango ovate amber snail as belonging to the genus Succinea to be incorrect. The Service finds that the Chittenango ovate amber snail should be recognized as Novisuccinea chittenangoensis and is a valid listable entity. This species will continue to be listed as threatened, and no other aspect of the entry for this species in 50 CFR 17.11(h) will change as a result of this rule.

References Cited

A complete list of the referenced materials is available at http://www.regulations.gov at Docket No. FWS-R5-ES-2020-0127 or upon request from the U.S. Fish and Wildlife Service (see FOR FURTHER INFORMATION CONTACT).

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17—ENDANGERED AND THREATENED WILDLIFE AND PLANTS

1. The authority citation for part 17 continues to read as follows:

Authority: 16. U.S.C. 1361-1407; 1531-1544; 4201-4245, unless otherwise noted.

2. Amend § 17.11, in paragraph (h), in the List of Endangered and Threatened Wildlife, by revising:

a. Under REPTILES, the entries for “Turtle, bog (=Muhlenberg) [Northen DPS]” and “Turtle, bog (=Muhlenberg)”;

b. Under SNAILS, the entry for “Snail, Chittenango ovate amber”; and

c. Under INSECTS, the entries for “Beetle, Northeastern beach tiger” and “Beetle, Puritan tiger”.

The revisions read as follows:

§ 17.11 Endangered and threatened wildlife.

* * * * *

(h) * * *

Common name | Scientific name | Where listed | Status | Listing citations and applicable rules
* * * * * * *
Reptiles
* * * * * * *
Turtle, bog (=Muhlenberg) [Northern DPS] | Glyptemys muhlenbergii | Wherever found, except GA, NC, SC, TN, VA | T | 62 FR 59605, 11/4/1997.
Turtle, bog (=Muhlenberg) | Glyptemys muhlenbergii | U.S.A. (GA, NC, SC, TN, VA) | T (S/A) | 62 FR 59605, 11/4/1997; 50 CFR 17.42(f).4d
* * * * * * *
Snails
* * * * * * *
Snail, Chittenango ovate amber | Novisuccinea chittenangoensis | Wherever found | T | 43 FR 28932, 7/3/1978.
* * * * * * *
Insects
* * * * * * *
Beetle, Northeastern beach tiger | Habroscelimorpha dorsalis dorsalis | Wherever found | T | 55 FR 32088, 8/7/1990.
* * * * * * *
Beetle, Puritan tiger | Ellipsoptera puritana | Wherever found | T | 55 FR 32088, 8/7/1990.
* * * * * * *

3. Amend § 17.12, in paragraph (h), in the List of Endangered and Threatened Plants, under FLOWERING PLANTS, by:

a. Removing the entry for “Arabis serotina”;

b. Revising the entry for “Astragalus robbinsii var. jesupi”; and

c. Adding in alphabetical order an entry for “Boechera serotina”.

The revision and addition read as follows:

§ 17.12 Endangered and threatened plants.

* * * * *

(h) * * *

Scientific name | Common name | Where listed | Status | Listing citations and applicable rules
Flowering Plants
* * * * * * *
Astragalus robbinsii var. jesupii | Jesup's milk-vetch | Wherever found | E | 52 FR 21481, 6/5/1987.
* * * * * * *
Boechera serotina | Shale barren rock cress | Wherever found | E | 54 FR 29655, 7/13/1989.
* * * * * * *

§ 17.42 [Amended]

4. Amend § 17.42 in paragraph (f) introductory text by removing the words “(Clemmys muhlenbergii)” and adding in their place the words “(Glyptemys muhlenbergii)”.

Martha Williams,
Principal Deputy Director, Exercising the Delegated Authority of the Director, U.S. Fish and Wildlife Service.

[FR Doc. 2021-22518 Filed 10-14-21; 8:45 am]

BILLING CODE 4333-15-P